DEPARTMENT OF HEALTH AND HUMAN SERVICES

Centers for Disease Control and Prevention

[Program Announcement 02073]

Traumatic Brain Injury (TBI) Follow-up Registry And Surveillance of TBI in the Emergency Department (ED); Notice of Availability of Funds; Amendment

A notice announcing the availability of Fiscal Year 2002 funds to fund grants for Traumatic Brain Injury Follow-up Registry And Surveillance Of TBI In The Emergency Department was published in the Federal Register on May 8 2002, Vol. 67, No. 89, pages 30939-30942. The notice is amended as follows:

On page 30939, first column, Section C. Availability of Funds, Paragraph 1, line 1, should be changed to read “* * * Approximately $715,000 (including direct and indirect cost) * * *”

Dated: June 4, 2002.
Edward Schultz,
Acting Director, Procurement and Grants Office, Centers for Disease Control and Prevention.

[FR Doc. 02-14451 Filed 6-7-02; 8:45 am]

BILLING CODE 4163-18-P